DEPARTMENT OF AGRICULTURE

Forest Service

Uinta-Wasatch-Cache National Forest; Evanston-Mountain View Ranger District; Utah; Blacks Fork Salvage Project

AGENCY: Forest Service, USDA.

ACTION: Notice of intent to prepare an environmental impact statement.

SUMMARY: The Evanston-Mountain View Ranger District of the Uinta-Wasatch-Cache National Forest proposes to treat about 3,000 acres of a variety of vegetation types within the 39,800 acre Blacks Fork project area, located in Summit County, Utah approximately 20 miles southeast of Evanston, Wyoming. Proposed treatments include timber harvest, prescribed fire, and mechanical thinning. This proposal is being developed in direct response to the continuing mountain pine beetle epidemic in the area and its potential long-term impacts on the Blacks Fork area.

DATES: Comments concerning the scope of the analysis must be received by June 24, 2009. The draft environmental impact statement is expected November 2009 and the final environmental impact statement is expected March 2010.

ADDRESSES: Send written comments to: Blacks Fork Salvage Project, Attn: Stephen Ryberg, P.O. Box 1880, Evanston, WY 82931. Comments can also be hand delivered Monday through Friday 8 to 4:30 at the following address: 1565 Highway 150 suite A located in Evanston, Wyoming. In addition, comments can be submitted electronically to: comments-intermtn-wasatch-cache-evanston-mtnview@fs.fed.us or submitted via facsimile to 307-789-8639.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

FOR FURTHER INFORMATION CONTACT: Stephen Ryberg, District Ranger or Amy Barker, Environmental Coordinator at 307-789-3194.

Individuals who use telecommunication devices for the deaf (TDD) may call the Federal Information Relay Service (FIRS) at 1-800-877-8339 between 8 a.m. and 8 p.m., Eastern Time, Monday through Friday.

SUPPLEMENTARY INFORMATION:

Purpose and Need for Action

The primary purpose of this project is to salvage dead lodgepole pine. Associated with this site is the removal of mistletoe infested trees within the treatment units which will prevent infection onto the lodgepole pine that will regenerate in the salvaged openings. The need for action now is due to the ongoing mountain pine beetle epidemic and resulting mortality. Trees rapidly lose value as sawtimber once they are dead and begin to dry and decay. Salvaging dead conifers will provide commercial timber that contributes to a sustainable level of goods and services within area communities. The Wasatch-Cache Revised Forest Plan (2003) directs the use of timber harvest where allowed, to contribute to the economy while achieving properly functioning conditions of vegetation and watersheds.

A second purpose of this project is to provide wildlife habitat improvements to aspen, willow, and lodgepole habitat components. There is concern about the loss of aspen to conifer encroachment adjacent to riparian areas, wetlands, and beaver ponds. Stimulating aspen regeneration via salvage harvest and/or prescribed fire will improve beaver habitat, riparian hardwood health, and wetland hydrologic functions. There is a need to treat willow to increase vigor and age class diversity to improve wildlife browse. Salvaged lodgepole pine units will regenerate evenly to create large and dense lodgepole pine stands for future goshawk habitat.

A third purpose of this project is to reduce overall fuel loadings in treated stands. This reduction in fuel loading within treated stands is expected to result in a more patchy mosaic of burn conditions (compared to large expanses of heavy fuels across the landscape) for future wildfires, producing a more resilient landscape. Defensible space/fuel breaks created around or on the upwind side of the developed sites at the Lyman Lake Youth Camp, access road, and campground will alter local fire behavior and help alleviate concerns regarding protection of structures and visitors in the event of a wildfire. Salvaging lodgepole pine in the units adjacent to these developments and treating the resulting slash will further modify large fire behavior in this general vicinity.

Proposed Action

The proposed project includes treatment over approximately 3,000 acres of aspen, mixed aspen/lodgepole, and willow communities using timber harvest, prescribed fire, and mechanical fuels treatments.

Timber salvage harvest would be used over approximately 1,880 acres of the lodgepole pine and mixed lodgepole pine/aspen. Salvage of the dead and removal of the beetle infested and/or dwarf mistletoe infected trees would result in treatments with essentially all but the snags removed. Snags would be left in clumps and islands to keep them wind firm and intact. Regeneration of lodgepole pine and/or aspen can be expected within the treatment units.

Approximately 560 acres (primarily aspen-conifer communities) of the 1,880 salvage acres described previously would also be treated with prescribed fire in a mosaic pattern following the timber harvest. This will help stimulate aspen regeneration by causing at least 60% mortality in the aspen overstory. Slash from the logging operations would create a fuel bed sufficient to carry the fire.

Approximately 980 acres of the mixed aspen and conifer type would be burned, in a mosaic pattern to stimulate aspen and mixed aspen/lodgepole regeneration in patches. Approximately 40% to 80% of these acres would be burned with sufficient intensity to create these patches. A focus in this is to burn areas near old beaver ponds to recreate favorable habitat conditions and restore hydrologic function in these areas.

Approximately 90 acres of willow, along the river's edge would be treated with fire to create openings and patches for young willows to become established.

Approximately 50 acres near Lyman Lake campground and youth camp will be treated by thinning, hand felling, and piling of ladder fuels and dead wood to create defensible space/fuelbreaks. This is likely to be mostly small, non-commercial material, but there may be some commercial size trees treated as well (such as larger trees overhanging buildings).

The Blacks Fork project area has a fairly extensive road system in place and most of the general treatment areas are accessible. However, approximately 12.0 miles of temporary roads may be constructed to access specific treatment units. Of the 12.0 miles, about 3.0 miles are old logging roads (2 track) that are not considered system roads. While these are considered new construction, analysis should recognize that the prism is in place and construction thus will result in less soil disturbance. Following treatments, all temporary roads would be obliterated, the road prism returned to contour, and the surface revegetated. Surface roughening and slash will be used on the obliterated sections to reduce erosion potential while vegetation becomes established.

Approximately 1.1 miles of FS Road #80064 that is currently open to four wheel drive traffic would be improved to accommodate salvage logging traffic. Approximately 1.2 miles of the Brush Creek Road (#8 1657) would be also used. Approximately 3.0 miles of the Horse Creek Road (#885 13) and 0.7 miles of Road #84090 would also be improved and used.

The Brush Creek portion of the analysis area contains mixed National Forest System land and private land ownership. Access to this area has been via an old decaying wood bridge which was overlaid with a newer railcar bridge in 2001. The Brush Creek road was built by private parties roughly 40 years ago to access their lands south of the West Fork Blacks Fork, however, they constructed the bridge and portions of their access road on National Forest System lands. While the area is currently accessable using the railcar bridge, this type of bridge is not an engineered structure and thus cannot be certified by Forest Service engineers as safe for travel. Until it is replaced with a permanent engineer rated bridge, proper easements cannot be executed between the private landowner and the Forest Service to provide legal access to the area. The current location of the bridge abutments constrain water flow in the West Fork Blacks Fork channel resulting in downstream erosion of the south bank. These abutments are rotting and the original wooden bridge stringers and deck are beginning to fall into the stream channel. Constructing the bridge so the structure does not impede water flow, particularily during periods of high water, will be beneficial to the aquatic habitats. As part of the proposed action the West Fork Blacks Fork bridge will be replaced to provide access to salvage the lodgepole pine stands in Section 18, which are heavily infested by mountain pine beetles. Over the long term, it would provide access for the private property owner while allowing fire access, and other types of administrative uses on the National Forest by the Forest Service. This road has been gated for many years and this would continue if the bridge were replaced. The road would be periodically maintained to prevent erosion and deterioration of the road prism. The execution of easements would establish legal access and also provide for future maintenance.

There are five basic techniques that will be used to contain prescribed fire in the treatment units. Fire will be used alone or in conjunction with commercial timber harvest to achieve a mosaic of burned and unburned patches within some of the units. Specific methods of line control will be specified in the burn plan. Construction of line will use the minimum necessary disturbance. The following estimates of miles of each kind of fire line are approximate, but represent the upper end (most line construction) for control lines. It is likely that firing techniques will be utilized more and constructed lines less than the estimates given.

At least 3.9 miles of unit perimeter will utilize terrain features in conjunction with the firing patterns to selectively burn portions of the units. Natural features such as rock outcrops, openings, and wet riparian/stream corridors, will serve as anchors for utilizing firing techniques. In particular, Blacks Fork will function as the west fireline for most of the eastern burn unit. Created features such as areas where timber has been harvested may also be appropriate for control lines, depending on fuel conditions.

Up to about 0.3 miles of handline (averaging 24 to 36 inches wide and cleared to mineral soil) will be built and rehabilitated. Where vegetation is short and light, such as in sage and grass, fireline constructed by hand will be used to anchor the burning. Line will be appropriately rehabilitated (by mulching, seeding, and/or water barring, as needed) following completion of the burning to prevent erosion.

Approximately 1.0 miles of machine line could be used. Heavy equipment will be used to construct fireline where fuels are larger than feasible for handline, and natural features/firing techniques are not adequate for control. Line will average 72 to 96 inches in width and be cleared to mineral soil. Possible equipment includes (but is not limited to) bulldozers, rubber tired skidders, trail cats, and tracked excavators. Following burning, the lines will be rehabilitated (seeded and water barred as needed, and where available woody debris may be scattered along for microsite protection).

Approximately 0.9 miles of skid trails (including incidental machine line) will be used as fire containment lines. In timber sale units that have burning as secondary treatments skid trails for log removal will be placed along the perimeter and used also for containment of the fire. Skid trails are generally about 96 inches in width and have mineral soil exposed throughout much of their surface. As in the machine line, these will be rehabilitated following burning to prevent erosion. In small portions where it is not feasible to skid along the boundary then machine line will be built.

Approximately 4.1 miles of Forest System Road will be used for fire containment. Where existing roads coincide with burn unit boundaries these will be used as fire lines, such as along the eastern boundary of the eastern burn unit.

Possible Alternatives

In addition to the Proposed Action, a no action alternative will be considered. This alternative would simply continue current management without the actions of this proposal. Other alternatives may be developed in response to issues generated during the scoping process.

Responsible Official

Evanston-Mountain View District Ranger.

Nature of Decision To Be Made

The decision to be made is whether or not to implement vegetation treatments in the Blacks Fork project area, and if so, to what degree and where.

Preliminary Issues

Preliminary issues are the effects of treatments on wildlife habitat, and the effects of insect and disease outbreaks on current forest health.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: May 19, 2009.
Stephen M. Ryberg,
District Ranger.

[FR Doc. E9-12124 Filed 5-27-09; 8:45 am]

BILLING CODE 3410-11-M